DEPARTMENT OF JUSTICE

Notice of Lodging of Amended Consent Decree Under the Comprehensive Environmental Response, Compensation and Liability Act

Under 42 U.S.C. 9622(d), notice is hereby given that on February 11, 2004, a proposed First Amended Consent Decree (“Amended Decree”) in United States and People of the State of Illinois, ex rel. Madigan v. Manville Sales Corporation, Civil Action No. 88C 630, was lodged with the United States District Court for the Northern District of Illinois.

In this action, the United States asserted claims under 42 U.S.C. 9606 and 9607 to require Manville Sales Corporation, now known as Johns Manville, to perform certain response actions and to reimburse response costs incurred by the United States in response to releases and threatened releases of hazardous substances at a facility known as the Johns Manville Waukegan Disposal Area in Waukegan, Illinois (the “Site”). The State of Illinois intervened in the action, which was resolved in March of 1988 through entry of a Consent Decree (the “1988 Decree”) that provided for Johns Manville to perform a remedial action that the United States Environmental Protection Agency (“EPA”) selected in a Record of Decision dated June 30, 1987.

During construction of the remedy required under the 1988 Decree, EPA issued two Explanations of Significant Differences approving changes to certain aspects of the remedy. The Amended Decree provides for implementation of these changes.

Requirements modified or added by the Amended Decree include: (1) Requirements for cleanup of additional on-site areas where asbestos was discovered after entry of the Consent Decree; (2) revised design specifications for “cover” materials required in certain areas of the site; (3) provisions requiring excavation or capping of contaminated sediments in the Industrial Canal and closure of other on-site landfill areas and wastewater treatment system units used in Johns Manville's operations at the Site until 1998; (4) provisions restricting land use to prevent interference with the integrity or protectiveness of the remedy; and (5) provisions requiring that any subsequent conveyances of property at the Site be subject to environmental easements and restrictive covenants. The Amended Decree also updates various provisions of the Consent Decree to reflect more closely language of EPA's RD/RA Model Consent Decree.

The Department of Justice will receive for a period of thirty (30) days from the date of this publication comments relating to the Amended Decree. Comments should be addressed to the Assistant Attorney General, Environment and Natural Resources Division, P.O. Box 7611, U.S. Department of Justice, Washington, DC 20044-7611, and should refer to United States v. Manville Sales Corporation, D.J. Ref. 90-11-1-7B.

The Amended Decree may be examined at the Office of the United States Attorney, 219 South Dearborn Street, Chicago, Illinois 60604, and at U.S. EPA Region 5, 77 West Jackson Boulevard, Chicago, Illinois 60604. During the public comment period, the Amended Decree, may also be examined on the following Department of Justice Web site: http://www.usdoj.gov/enrd/open.html. A copy of the Amended Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $35.50 (25 cents per page reproduction cost) payable to the U.S. Treasury. In requesting a copy exclusive of exhibits and defendants' signatures, please enclose a check in the amount of $18.75 (25 cents per page reproduction cost) payable to the U.S. Treasury.

William D. Brighton,
Assistant Chief, Environmental Enforcement Section, Environment and Natural Resources Division.

[FR Doc. 04-3658 Filed 2-19-04; 8:45 am]

BILLING CODE 4410-15-M